ENVIRONMENTAL PROTECTION AGENCY

[ER-FRL-6692-3]

Environmental Impacts Statements; Notice of Availability

Responsible Agency: Office of Federal Activities, General Information (202) 564-7167 or http://www.epa.gov/compliance/nepa/.

Weekly receipt of Environmental Impact Statements

Filed 10/15/2007 through 10/19/2007.

Pursuant to 40 CFR 1506.9.

EIS No. 20070435, Draft EIS, BLM, UT, Richfield Field Office Resource Management Plan, Implementation, Future Management of the Public Lands and Resource, Glen Canyon National Recreation Area, Capitol Reef and Canyonlands National Parks, Sanpete, Sevier, Piute, Wayne and Garfield Counties, UT. Comment Period Ends: 01/24/2008. Contact: Wayne Wetzel, 435-896-1500.

EIS No. 20070436, Draft EIS, FHW, ME, Wiscasset Route 1 Corridor Study Project, To Relieve Traffic Congestion and Improve Safety, U.S. Army COE section 404 Permit, Wiscasset and Edgecomb Counties, ME. Comment Period Ends: 12/21/2007. Contact: Mark Asselmann, 207622-8350.

EIS No. 20070437, Draft EIS, NPS, HI, PROGRAMMATIC EIS—Ala Kahakai National Historic Trail Comprehensive Management Plan, To Provide Long-Term Direction for Natural and Cultural Resource, Island of Hawii, HI. Comment Period Ends: 12/26/2007. Contact: Aric Arakaki 808-326-6012.

EIS No. 20070438, Final Supplement, NOA, NC, Atlantic Sea Scallop Fishery Management Plan (FMP), Amendment 11, Implementation to Control Capacity and Mortality in the General Category Scallop Fishery, Gulf of Maine, Georges Bank, NC. Wait Period Ends: 11/26/2007. Contact: Patricia A. Kurkal, 978-281-9250.

EIS No. 20070439, Draft EIS, BOP, AL, Aliceville, Alabama Area, Proposed Federal Correctional Complex, To Address the Growing Federal Inmate Population, Pickens County, AL. Comment Period Ends: 12/10/2007. Contact: Pamela J. Candler, 202-514-6470.

EIS No. 20070440, Draft EIS, FHW, UT, Mountain View Corridor (MVC) Project, Proposed Transportation Improvement 2030 Travel Demand in Western Salt Lake County south of I-80 and west of Bangerter Highway and in northwestern Utah County of I-15, south of the Salt Lake County Line, and north of Utah Lake, Salt Lake and Utah County, UT. Comment Period Ends: 12/24/2007. Contact: Edward Woolford, P.E. 801-963-0182.

EIS No. 20070441, Draft Supplement, IBR, CA, PROGRAMMATIC—Environmental Water Account (EWA) Project, Updated Information to Provide an Evaluation of 2004 Final EIS/EIR Environmental Water Account (EWA) and Effects Associated with Extending the Current EWA's through 2011, CALFED Bay-Delta Programs, Endangered Species Act section 7 and U.S. Army COE Section 10 Permit, CA. Comment Period Ends: 12/10/2007. Contact: Ms. Sammie Cervantes, 916-978-5104.

EIS No. 20070442, Final EIS, FHW, CA, Interstate 5/Cosumnes River Boulevard Interchange Project, Extension of Cosumnes River Boulevard from Franklin Boulevard to Freeport Boulevard with an Interchange at Interstate 5, South of the Pocket/Meadowview Road Interchange and North of the Laguna Boulevard Interchange, City of Sacramento, Sacramento County, CA. Wait Period Ends: 11/26/2007. Contact: Cesar E. Perez, 916-498-5065.

EIS No. 20070443, Draft Supplement, FTA, CA, Third Street Light Rail Phase 2, Updated Information on the Central Subway Project Area, Funding, San Francisco Municipal Transportation Agency, in the City and County San Francisco, CA. Comment Period Ends: 12/10/2007. Contact: Ray Sukys, 415-744-3133.

EIS No. 20070444, Final EIS, USA, GA, Fort Benning U.S. Army Infantry Center, Base Realignment and Closure (BRAC) 2005 and Transformation Actions, Implementation, Chattahoochee and Muscogee Counties, GA. Wait Period Ends: 11/26/2007. Contact: John Brent, 706-545-2180.

EIS No. 20070445, Draft EIS, USN, 00, Shock Trail of the MESA VERDE (LPD 19), San Antonio (LPD 17) Class Ship designated as the Shock Ship for Proposed Shock Trail, Possible Offshore Locations are Naval Station Norfolk, VA; Naval Station Mayport, FL; and Naval Air Station Pensacola, FL. Comment Period Ends: 12/10/2007. Contact: Donald Shaver, 703-412-7521.

EIS No. 20070446, Final EIS, FHW, IN, I-69 Evansville to Indianapolis Project, I-69 Tier 2 Section 1: Evansville to Oakland City, from 1-64 to IN-64, Preferred Alternative is 4, Gibson and Warrick Counties, IN. Wait Period Ends: 11/26/2007. Contact: Anthony DeSimone, 317-226-5307.

EIS No. 20070447, Draft EIS, FHW, CA, Marin-Sonoma Narrows (MSN) HOV Widening Project, Propose to Relieve Recurrent Congestion along U.S. 101 south of the Route 37 Interchange in the City of Novato (Marin County) and ends north of the Corona Road Overcrossing in the City of Petaluma (Sonoma County), Marin and Sonoma Counties, CA. Comment Period Ends: 12/14/2007. Contact: Cesar E. Perez, 916-498-5065.

EIS No. 20070448, Final EIS, USA, 00, PROGRAMMATIC—Army Growth and Force Structure Realignment, Implementation, Nationwide. Wait Period Ends: 11/26/2007. Contact: Mike Ackerman, 410-436-2522.

EIS No. 20070449, Final EIS, BLM, ID, Smoky Canyon Mine Panels F & G, Proposed Mine Expansion, Caribou County, ID. Wait Period Ends: 11/26/2007. Contact: Bill Stout 208-478-6367.

EIS No. 20070450, Draft Supplement, WPA, 00, Big Stone II Power Plant and Transmission Project, Addresses the Impacts of Changes to the Proposed Action relative to Cooling Alternatives and the Use of Groundwater as Backup Water Source, U.S. Army COE Section 10 and 404 Permits, Grant County, SD and Big Stone County, MN. Comment Period Ends: 12/10/2007. Contact: Nancy Werdel, 720-962-7251.

EIS No. 20070451, Draft EIS, AFS, UT, Indian Springs Road Realignment, Reducing Adverse Impacts to Watershed and Fisheries, U.S. Army COE Section 404 Permit, Uinta National Forest, Heber Ranger District, Wasatch County, UT. Comment Period Ends: 12/10/2007. Contact: Jim Percy, 435-654-0470.

Dated: October 23, 2007.
Robert W. Hargrove,
Director, NEPA Compliance Division, Office of Federal Activities.

[FR Doc. E7-21102 Filed 10-25-07; 8:45 am]

BILLING CODE 6560-50-P